DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary object in the control of the Thomas Burke Memorial Washington State Museum (Burke Museum), Seattle, WA. The human remains and associated funerary object were removed from south of Kent, King County, WA.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made by Burke Museum professional staff in consultation with representatives of the Muckleshoot Indian Tribe of the Muckleshoot Reservation, Washington; Puyallup Tribe of the Puyallup Reservation, Washington; Sauk-Suiattle Indian Tribe of Washington; Snoqualmie Tribe, Washington; Suquamish Indian Tribe of the Port Madison Reservation, Washington; and Tulalip Tribes of the Tulalip Reservation, Washington.

In 1921, human remains representing a minimum of one individual were removed from south of Kent in King County, WA. The human remains were located under a log or root and removed by W.A. Steigleder while excavating for a road. The human remains were donated to the Burke Museum in 1921 (Burke Accn. #1879). No known individual was identified. The one associated funerary object is a carved stone club.

Based on archeological and geographic information, the human remains and associated funerary object have been determined to be Native American. The stone club is consistent with other Coast Salish material culture. The provenience where the human remains and associated funerary object were found is within the aboriginal territory of the Muckleshoot Indian Tribe of the Muckleshoot Reservation, Washington. Ancestors of the Muckleshoot traditionally occupied the Green River and White River Basin Valleys. Kent is located along the Green River area. The Skopamish Band inhabited the upper Green River area. The Skopamish and other Native Americans from the Green River and White River Basin Valleys were assigned to move to the Nisqually Reservation as per the terms of the Medicine Creek Treaty of December 26, 1854; however, Governor Isaac Stevens recommended the Muckleshoot Reservation be established in 1856. In 1857, the Muckleshoot Reservation was formally approved. The Skopamish and other Native American groups now represented by the Muckleshoot Indian Tribe were also signatories to the Point Elliot Treaty of January 22, 1855.

Officials of the Burke Museum have determined that, pursuant to 25 U.S.C. 3001 (9-10), the human remains described above represent the physical remains of one individual of Native American ancestry. Officials of the Burke Museum also have determined that, pursuant to 25 U.S.C. 3001 (3)(A), the one object described above is reasonably believed to have been placed with or near individual human remains at the time of death or later as part of the death rite or ceremony. Lastly, officials of the Burke Museum have determined that, pursuant to 25 U.S.C. 3001 (2), there is a relationship of shared group identity that can be reasonably traced between the Native American human remains and associated funerary object and the Muckleshoot Indian Tribe of the Muckleshoot Reservation, Washington.

Representatives of any other Indian tribe that believes itself to be culturally affiliated with the human remains and associated funerary object should contact Megon Noble, Burke Museum, University of Washington, Box 353010, Seattle, WA 98195-3010, telephone (206) 685-3849, before August 6, 2009. Repatriation of the human remains and associated funerary object to the Muckleshoot Indian Tribe of the Muckleshoot Reservation, Washington may proceed after that date if no additional claimants come forward.

The Burke Museum is responsible for notifying the Muckleshoot Indian Tribe of the Muckleshoot Reservation, Washington; Puyallup Tribe of the Puyallup Reservation, Washington; Sauk-Suiattle Indian Tribe of Washington; Snoqualmie Tribe, Washington; Suquamish Indian Tribe of the Port Madison Reservation, Washington; and Tulalip Tribes of the Tulalip Reservation, Washington that this notice has been published.

Dated: June 15, 2009
Sherry Hutt,
Manager, National NAGPRA Program.

[FR Doc. E9-16020 Filed 7-6-09; 8:45 am]

BILLING CODE 4312-50-S